DEPARTMENT OF HEALTH AND HUMAN SERVICES

Centers for Disease Control and Prevention

[60Day-21-0234; Docket No. CDC-2020-0125]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled the National Ambulatory Medical Care Survey (NAMCS). The goal of the project is to assess the health of the population through patient use of physician offices, community health centers (CHCs), and to monitor the characteristics of physician practices.

DATES: CDC must receive written comments on or before March 29, 2021.

ADDRESSES: You may submit comments, identified by Docket No. CDC-2020-0125 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Ambulatory Medical Care Survey (NAMCS) (OMB Control No. 0920-0234, Exp. 05/31/2022)—Revision—National Center for Health Statistics (NCHS), Centers for Disease Control and Prevention (CDC).

Background and Brief Description

The National Ambulatory Medical Care Survey (NAMCS) was conducted intermittently from 1973 through 1985, and annually since 1989. The survey is conducted under authority of Section 306 of the Public Health Service Act (42 U.S.C. 242k).

NAMCS is part of the ambulatory care component of the National Health Care Surveys (NHCS), a family of provider-based surveys that capture health care utilization from a variety of settings, including hospital in-patient and long-term care facilities. NCHS surveys of health care providers include NAMCS, the National Hospital Ambulatory Medical Care Survey (NHAMCS) (OMB Control No. 0920-0278, Exp. 09/30/2023), the National Hospital Care Survey (OMB Control No. 0920-0212, Exp. 03/31/2022), and National Post-acute and Long-term Care Study (OMB Control No. 0920-0943, Exp. 09/30/2023).

An overarching purpose of NAMCS is to meet the needs and demands for statistical information about the provision of ambulatory medical care services in the United States; this fulfills one of NCHS missions, to monitor the nation's health. In addition, NAMCS provides ambulatory medical care data to study: (1) The performance of the U.S. health care system, (2) care for the rapidly aging population, (3) changes in services such as health insurance coverage change, (4) the introduction of new medical technologies, and (5) the use of electronic health records (EHRs). Ongoing societal changes have led to considerable diversification in the organization, financing, and technological delivery of ambulatory medical care. This diversification is evidenced by the proliferation of insurance and benefit alternatives for individuals, the development of new forms of physician group practices and practice arrangements (such as office-based practices owned by hospitals), and growth in the number of alternative sites of care.

Ambulatory services are rendered in a wide variety of settings, including physician offices and hospital outpatient and emergency departments. Since more than 65% of ambulatory medical care visits occur in physician offices, NAMCS provides data on the majority of ambulatory medical care services.

In addition to health care provided in physician offices and outpatient and emergency departments, community health centers (CHCs) play an important role in the health care community by providing care to people who might not be able to afford it, otherwise. CHCs are local, non-profit, community-owned health care settings, which serve approximately 28 million individuals throughout the United States.

This revision seeks approval to adjust the CHC sample size. In 2021, the sample size will be reduced to 50 CHCs, and in 2022 allocated funds will cover a sample size of 110 CHCs. In 2023 the sample size will increase to 115 CHCs. There will be no modification to the office-based physician sample. In the 2021 survey year we will include the supplemental sample of physicians from which visit data are collected through submission of EHRs with the approved 2019 sample size, and for subsequent survey years when deemed necessary. The annualized 2021-2023 NAMCS sample size is projected to be 6,000 office-based physicians and 92 CHCs. Questions on the traditional office-base physician survey will be modified for clarification and to keep current with medical practice and terminology. In 2020 we are also seeking to include the potential for experiments involving physician incentives for some office-based physicians. In 2021, data collection for CHCs will transition from manual abstraction to be sent through EHRs. A set-up fee will be allotted to sampled CHCs to offset the cost of this new data collection method. With this transition, a new CHC facility interview will be implemented and personally identifiable information (PII) will be collected from both the CHCs, and physicians who submit EHR data. For both the traditional office-based physicians and CHCs, we will continue COVID-19 questions in 2021 and for subsequent data years where information is pertinent. We will also begin to conduct methodological work to improve upon the survey. Estimated annualized burden is 9,272 hours.

Estimated Annualized Burden Hours
Type of respondents | Form name | Number of respondents | Number of responses per respondent | Average burden per response (in hrs.) | Total burden (in hrs.)
Office-based Physicians or Staff (Abstraction) | Physician Induction Interview (2020) | 500 | 1 | 30/60 | 250
| Pulling, re-filing medical record forms (FR abstracts) (2020) | 500 | 30 | 1/60 | 250
CHC Executive/Medical Directors | CHC Facility Induction Interview (2020) | 17 | 1 | 30/60 | 9
CHC Providers | Provider Induction Interview (2020) | 52 | 1 | 30/60 | 26
CHC Provider Staff | Pulling, re-filing medical record forms (FR abstracts) | 52 | 30 | 1/60 | 26
Office-based Physicians (Abstraction) and CHC Providers | Reinterview Study (2020) | 33 | 1 | 15/60 | 8
Office-based Physicians or Staff (Abstraction) | Physician Induction Interview (2021-2023) | 3,000 | 1 | 30/60 | 1,500
| Pulling, re-filing medical record forms (FR abstracts) (2021-2023) | 3,000 | 30 | 1/60 | 1,500
Office-based Physician Staff (EHR Submission) | Physician Facility Interview (PFI) (2021-2023) | 3,000 | 1 | 45/60 | 2,250
| Pulling, re-filing medical record forms (EHR Onboarding) (2021-2023) | 3,000 | 1 | 60/60 | 3,000
CHC Staff | CHC Facility Interview (2021-2023) | 92 | 1 | 15/60 | 23
| Prepare and transmit EHR for Visit Data (quarterly) (2021-2023) | 92 | 4 | 60/60 | 368
Office-based Physicians (Abstraction) | Reinterview Study (2021-2023) | 250 | 1 | 15/60 | 63
Total |  |  |  |  | 9,272

Jeffrey M. Zirger,
Lead, Information Collection Review Office, Office of Scientific Integrity, Office of Science, Centers for Disease Control and Prevention.

[FR Doc. 2021-01691 Filed 1-27-21; 8:45 am]

BILLING CODE 4163-18-P